OFFICE OF PERSONNEL MANAGEMENT

Nonforeign Area Cost-of-Living Allowances Price and Background Surveys; Revised Collection; Comment Request

AGENCY: Office of Personnel Management.

ACTION: Notice.

SUMMARY: In accordance with the Paperwork Reduction Act of 1995, the Office of Personnel Management (OPM) seeks comments on its intention to request reinstatement of two information collections whose approval period has expired. OPM has revised the two information collections to conform to the settlement agreement in the lawsuit Caraballo, et al. v. United States, No. 1997-0027 (D.V.I), August 17, 2000. OPM uses the two collections—a price survey and a background survey—to gather data to be used in determining cost-of-living allowances for certain Federal employees in Alaska, Hawaii, Guam and the Commonwealth of the Northern Mariana Islands, Puerto Rico, and the U.S. Virgin Islands. The price survey will be conducted in selected areas generally on an annual basis. The background survey will be conducted annually on a limited basis in preparation for each of the price surveys.

DATES: Submit comments on or before December 17, 2001.

ADDRESSES: Comments: Send or deliver comments to Donald J. Winstead, Assistant Director for Compensation Administration, Workforce Compensation and Performance Service, Office of Personnel Management, Room 7H31, 1900 E Street NW., Washington, DC 20415-8200; fax: (202) 606-4264, or email: cola@opm.gov. Copies: For copies of this proposal, contact Mary Beth Smith-Toomey at (202) 606-8358 or email: mbtoomey@opm.gov.

FOR FURTHER INFORMATION CONTACT: Kurt M. Springmann, (202) 606-2838.

SUPPLEMENTARY INFORMATION: Office of Management and Budget (OMB) approval of the Nonforeign Area Cost-of-Living Allowance Price Survey and Background Survey expired on August 31, 2001. OPM plans to request OMB approval for an additional 3 years and is seeking comments prior to submitting the collections to OMB for review. As set out in OMB regulations at 5 CFR 1320.8(d)(1), comments are requested to—

• Evaluate whether the surveys are necessary and have practical utility;

• Evaluate the accuracy of the burden estimate, including the assumptions and methodological validity used in determining the burden estimate;

• Enhance the quality, utility, and clarity of the information to be collected; and

• Minimize the burden on respondents.

Overview of Information Collections

Title: Nonforeign Area Cost-of-Living Allowance Price Survey and Background Survey.

OMB Control Number: 3206-0199.

Summary: The Nonforeign Area Cost-of-Living Allowance Price Survey is used by OPM to collect price data in survey areas located in the nonforeign allowance areas and in the Washington, DC, area. The allowance areas are located in Alaska, Hawaii, Guam and the Commonwealth of the Northern Mariana Islands, Puerto Rico, and the U.S. Virgin Islands. The price surveys will be conducted annually in selected survey areas on a rotating basis.

The Nonforeign Area Cost-of-Living Allowance Background Survey is used by OPM to collect information to identify the services, items, quantities, outlets, and locations that will be surveyed in the annual price surveys. It is also used to collect information on local trade practices, consumer buying patterns, taxes and fees, and other economic characteristics related to living costs. The background survey will be conducted annually on a limited basis.

Need/Use for Surveys: The price survey is necessary for collecting living-cost data used to determine cost-of-living allowances (COLAs) paid to General Schedule, U.S. Postal Service, and certain other Federal employees in the allowance areas. The information is used to compare costs in the allowance areas with costs in the Washington, DC, area and to derive a COLA rate when the local cost of living significantly exceeds that in the DC area. The background survey is necessary to determine the continued appropriateness of items, services, and businesses selected for the annual price surveys. OPM uses the information collected under this survey to define the sources and parameters for the price surveys and to improve the COLA methodology.

Respondents: OPM will survey selected retail, service, realty, and other businesses and local governments in the allowance areas and in the Washington, DC, area. Approximately 2,200 establishments will be contacted in the price survey, and approximately 30 establishments will be contacted in the background survey. Participation in the surveys is voluntary.

Reporting and Recordkeeping Burden: OPM estimates that the average price survey interview will take approximately 7 minutes, for a total burden of 257 hours. The average background survey interview will take approximately 10 minutes, for a total burden of 5 hours.

Office of Personnel Management.
Kay Coles James,
Director.

[FR Doc. 01-26057 Filed 10-16-01; 8:45 am]

BILLING CODE 6325-39-P